DEPARTMENT OF AGRICULTURE

Office of Partnerships and Public Engagement

Notice of Request for Approval of an Information Collection; National Scholars Program; Withdrawal

AGENCY: Office of Partnerships and Public Engagement (OPPE), USDA.

ACTION: Notice; withdrawal.

SUMMARY: OPPE is withdrawing a Notice of the USDA/1890 National Scholars Program published in the Federal Register on January 3, 2022.

DATES: This withdrawal is effective January 10, 2022.

FOR FURTHER INFORMATION CONTACT: Kenya Nicholas, Office of Partnerships and Public Engagement, USDA/1890 National Scholars Program, 1400 Independence Avenue, Washington, DC 20250-3700; or call (202) 720-6350 or send a fax to: (202) 720-7704. You may also send an email to: 1890init@usda.gov.

SUPPLEMENTARY INFORMATION: In the Federal Register of January 3, 2022, withdraw FR Doc 2021-28389. We will submit an updated Notice regarding the USDA/1890 National Scholars Program at a later date.

Authority: 87 FR 68.

Dated: January 10, 2022.
Kenya Nicholas,
Deputy Director, Office of Partnerships and Public Engagement.

[FR Doc. 2022-00634 Filed 1-13-22; 8:45 am]

BILLING CODE 3412-88-P